DEPARTMENT OF HEALTH AND HUMAN SERVICES

Centers for Disease Control and Prevention

Statement of Organization, Functions, and Delegations of Authority

Part C (Centers for Disease Control and Prevention) of the Statement of Organization, Functions, and Delegations of Authority of the Department of Health and Human Services (45 FR 67772-76, dated October 14, 1980, and corrected at 45 FR 69296, October 20, 1980, as amended most recently at 69 FR 17166-17167, dated April 1, 2004) is amended to reorganize the Division of Health Interview Statistics, National Center for Health Statistics.

Section C-B, Organization and Functions, is hereby amended as follows:

Delete in its entirety the title and functional statement for the Division of Health Interview Statistics (CS7) insert the following:

Division of Health Interview Statistics (CS7). The Division of Health Interview Statistics plans and administers complex data collection systems and analytic programs and conducts a program of methodologic and substantive public health research activities based on the collection of data from nationwide and special health interview surveys. (1) Participates in the development of policy, long-range plans, and programs of NCHS; (2) plans, directs, and coordinates the health interview statistics program of NCHS; (3) administers Division programs comprised of national health interview surveys, longitudinal surveys, population-based telephone surveys, targeted follow-up studies, and national and subnational surveys on selected health topics; (4) conducts research on data collection and estimation methodology, survey methodology, questionnaire design, data quality and reliability, and statistical computation related to health and health status assessment; (5) analyzes data and publishes reports on the prevalence and incidence of disease and associated disabilities, health status, health-related behaviors, utilization of health care resources, health insurance status, and other health and well-being related topics; (6) conducts multidisciplinary research directed toward development of new scientific knowledge in areas related to health and health care, population demographics, economics, epidemiology, statistics, and disability; (7) performs innovative theoretical and experimental investigations of the content of health interview surveys; (8) develops sophisticated approaches to making health interview statistics data available to users, including techniques to avoid disclosure of confidential data; (9) conducts descriptive analyses and sophisticated multivariate analyses that integrate data across multiple surveys or data sets; (10) designs, develops, and implements state-of-the-art computing systems for collecting, storing, and retrieving health interview statistics data and for subsequent analysis and dissemination; (11) applies computer systems and software in its programs, consistent with NCHS and CDC information technology requirements; (12) incorporates novel system improvement efforts to maintain timeliness, efficiency, cost effectiveness, and accuracy of data systems over multiple years; (13) conducts methodological research on the utilization, evaluation, and presentation of health interview statistics; (14) produces and publishes a wide variety of health interview statistics reports, papers, and tabulations in multiple formats as well as makes presentations on analyses of such data; and (15) develops and sustains collaborative partnerships with, and provides expert advice and technical assistance to NCHS, CDC, and DHHS and externally with public, private, domestic and international entities on issues regarding health interview statistics data.

Office of the Director (CS71). (1) Participates in the development of policy, long-range plans, and programs of NCHS; (2) provides leadership for the design, development, conduct, and statistical evaluation of the Division's data systems; (3) oversees the analysis and dissemination of national and subnational health interview statistics through national health interview statistics surveys, supplements, and customized population surveys; (4) coordinates the planning and production activities of the Division including data collection, information technology, and data dissemination systems; (5) directs, plans, and monitors the scientific integrity and relevance to public health of the Division's data, publications, services, and other products; (6) develops and administers a research, analytic, and methodological program in health interview statistics; (7) conducts theoretical and experimental research to improve the usefulness of the Division's statistics and data to policymakers, researchers, and academia; and (8) provides advice and leads development of collaborative partnerships within NCHS, CDC, and DHHS, and externally with public, private, domestic and international entities on issues regarding health interview statistics and the manner in which statistics may impact policy issues.

Delete the title and functional statement for the Systems and Programming Branch (CS72), and insert the following:

Data Production and Systems Branch (CS72). (1) Conducts research into the design, development, deployment, and administration of survey and information technology systems to collect, process, and disseminate national health interview survey data; (2) develops system improvement plans and strategies to insure timely, cost-effective, accurate, and confidential data collection and production systems; (3) performs systems analysis and computer programming of health interview statistics data, employing state-of-the-art information technologies in support of data collection, processing, maintenance, analysis, and dissemination activities; (4) develops and adopts computer technologies, data architectures, security infrastructure, and database management for health interview statistics systems that are consistent with NCHS and CDC IT requirements; (5) develops and implements data collection and production standards for the Division's surveys; (6) provides planning for utilization of evolving telecommunication, data access, and network technologies in Division survey efforts; (7) conduct studies and analyses of data collection, processing, and dissemination systems to insure data confidentiality; (8) designs and implements computer applications to produce final edited and imputed health interview survey data and statistics; (9) produces health statistics reports and tabulations of data from health interview surveys in multiple formats; and (10) provides consultation and expert technical assistance NCHS-wide as well as to a broad range of agencies, institutions, federal, local, and international governments, researchers, and individuals regarding systems design and administration for health interview statistics technology systems.

Delete in their entirety the title and functional statement for the Survey Planning and Development Branch (CS73) and insert the following:

Survey Planning and Special Surveys Branch (CS73). (1) Establishes the design and content of the national health interview surveys and subnational special surveys in response to public health priorities; (2) converts identified data needs into research, development, and evaluation activities and related public health information; (3) designs and conducts methodological, analytical, developmental, and evaluation studies of health interview survey processes, questions, and data; (4) performs theoretical and experimental research on the design and content of the health interview survey in order to improve the timeliness, availability, and quality of the health interview statistics data; (5) plans and conducts special customized population surveys such as the State and Local Area Integrated Telephone Survey (SLAITS) in order to obtain timely state and smaller-area data as well as national data relevant to public health; (6) collaborates with other NCHS programs and through contracts, grants, and interagency agreements with outside sponsors of surveys for the development and implementation of survey questions and data; (7) publishes and presents results of methodological, analytical, developmental, and evaluation studies of special population surveys and data; (8) serves as the NCHS resource on special population surveys data and their use in addressing critical public health issues; and (9) provides consultation and technical assistance to a wide range of researchers and institutions at the state, national, and international levels, addressing the definitions, needs, and uses for national and subnational health interview statistics and data.

Delete in their entirety the title and functional statement for the Data Analysis Branch (CS74) and insert the following:

Data Analysis and Quality Assurance Branch (CS74). (1) Conducts research and analysis on topics relevant to public health using National Health Interview Survey (NHIS) data; (2) plans, develops, and implements analytic techniques and guidelines to assure data quality standards for Division surveys and supplements; (3) prepares scientific papers and presentations on the health status of the population, broad health trends, and characteristics of persons with health problems using data from the NHIS; (4) converts identified health interview statistics data needs into research, development, and evaluation activities; (5) conducts descriptive analyses as well as multivariate analyses that integrate data across multiple surveys or data sets; (6) administers analytic and scientific peer review of manuscripts produced from data collected in the Division's programs; (7) develops and implements a data dissemination plan to address needs of researchers; (8) serves as the NCHS resource on health interview survey data and their use in assessing the prevalence and incidence of disease and associated disabilities, health status, health related behaviors, health insurance status, and other health and well-being related topics; (9) provides interpretations and recommendations regarding public health issues as a result of data analyses from the NHIS; and (10) provides consultation, technical assistance, and liaison to academia, other research groups, and State, Federal, and international entities concerning the development, uses, and dissemination of health interview survey data.

Delete in their entirety the title and functional statement for the Special Population Surveys Branch (CS75).

Dated: June 6, 2004.
William H. Gimson,
Chief Operating Officer, Centers for Disease Control and Prevention (CDC).

[FR Doc. 04-14006 Filed 6-21-04; 8:45 am]

BILLING CODE 4160-18-M